DEPARTMENT OF HEALTH AND HUMAN SERVICES

Centers for Disease Control and Prevention

[Docket No. CDC-2011-0004]

Public Health Information Network (PHIN) Messaging Guide for Syndromic Surveillance

AGENCY: Centers for Disease Control and Prevention (CDC), Department of Health and Human Services (HHS).

ACTION: Notice with comment period.

SUMMARY: The Centers for Disease Control and Prevention (CDC), located within the Department of Health and Human Services (HHS) is requesting public comment on the draft PHIN Messaging Guide for Syndromic Surveillance. The document translates the business requirement recommendations from the International Society for Disease Surveillance to technical specifications to support meaningful use of electronic health records for syndromic surveillance. Comments will be used to inform and finalize the Messaging Guide.

DATES: Written comments must be received on or before June 20, 2011. See Addresses for instructions to submit comment.

ADDRESSES: You may submit written comments to the following address: Public Health Informatics and Technology Program Office, Centers for Disease Control and Prevention, 1600 Clifton Road, NE., Mailstop E-76, Atlanta, Georgia 30329. Attn: PHIN Syndromic Surveillance Messaging Guide Comments (Docket No. CDC-2011-0004),

You may also submit written comments electronically to http://www.regulations.gov. Comments must be identified by Docket No. CDC-2011-0004. Please follow directions at http://wwww.regulations.gov to submit comments.

All relevant comments received will be posted publicly without change, including any personal or proprietary information provided. An electronic version of the draft is available to download at http://www.regulations.gov and http://www.cdc.gov/phin/library/2011/guides/Syndromic_Surveillance_Implementation_Guide_Release_1_4.pdf.

Written comments, identified by Docket No. CDC-2011-0004, will be available for public inspection Monday through Friday, except for legal holidays, from 9 a.m. until 5 p.m., Eastern Daylight Time, at 1600 Clifton Road, NE., Atlanta, Georgia 30333. Please call ahead to (404) 639-6100 and ask for a representative from the Public Health Informatics and Technology Program Office to schedule your visit. Comments may also be viewed at http://www.regulations.gov.

FOR FURTHER INFORMATION CONTACT: Nikolay Lipskiy, Centers for Disease Control and Prevention, Public Health Informatics and Technology Program Office; l600 Clifton Road, NE., Mailstop E-76, Atlanta, Georgia 30329, phone 404-498-6100.

SUPPLEMENTARY INFORMATION: The International Society for Disease Surveillance (ISDS), with the support of CDC, convened a Meaningful Use Workgroup to define current syndromic surveillance business standards and data requirements. The goal of the ISDS workgroup is to ensure that public health authorities, health care professionals, Electronic Health Record (EHR) technology developers, and the HHS Office of the National Coordinator for Health Information Technology have business standards that will best support meaningful use of EHRs for syndromic surveillance. The Final Recommendation from ISDS (available at http://www.syndromic.org/uploads/files/ISDSRecommendation_FINAL.pdf) was published in early January 2011. As the ISDS workgroup developed recommendations, the CDC Public Health Informatics and Technology Program Office, worked to translate the business requirement recommendations to technical specifications. This notice announces a draft PHIN Messaging Guide for Syndromic Surveillance available for public comment at http://www.regulations.gov and http://www.cdc.gov/phin/library/2011/guides/Syndromic_Surveillance_Implementation_Guide_Release_1_4.pdf

Dated: April 27, 2011.
Tanja Popovic,
Deputy Associate Director for Science, Centers for Disease Control and Prevention.

[FR Doc. 2011-10949 Filed 5-4-11; 8:45 am]

BILLING CODE 4163-18-P